DEPARTMENT OF HEALTH AND HUMAN SERVICES

Administration for Children and Families

Notice of Meetings for Early Head Start-Child Care Partnerships

AGENCY: Administration for Children and Families, HHS.

ACTION: Notice of public meetings via webinar and telephone call-in.

SUMMARY: This public meeting is to obtain input on the creation of Early Head Start (EHS)-Child Care Partnerships that were authorized by the 2014 Omnibus Act, which was released on January 17, 2014. The purpose of this meeting is to provide an open door forum for public input in order to help the Department of Health and Human Services as we develop future planning activities.

To help us best develop Early Head Start with local child care centers and family child care providers serving low-income infants and toddlers, this notice invites the public to learn about partnerships and provide information that may assist the Agency at two public meetings held via webinar and telephone call-in.

DATES: Two public meetings will be held on February 6, 2014, and February 7, 2014. The dates and times for each meeting will be:

February 6, 2014: 4:00-5:00 p.m. EST

February 7, 2014: 4:00-5:00 p.m. EST

Registration and Additional Information: We request that interested persons register online with the Child Care Communications Management Center (CMC) to participate in one or more meetings via either webinar or by telephone. Interested persons may register for the February 6 meeting at: https://www3.gotomeeting.com/register/905737662, or the February 7 meeting at: https://www3.gotomeeting.com/register/539737118.

The contact at CMC is Karen Limsi, who can be reached by telephone at 240-399-8729 and by email at klimsi@blhtech.com. Interested persons should register at least the day before the meeting in which they wish to participate.

Each public meeting is scheduled for one hour, but will end sooner if participants have finished providing input before the time period expires.

The format for the meetings is intended to allow participants to provide input and to respond to the input provided by others. We especially request input from entities interested in creating partnerships.

To help interested individuals prepare for the meetings, we invite review of the 2014 Omnibus Appropriations bill. The full text is set forth at: http://www.gpo.gov/fdsys/pkg/BILLS-113hr3547enr/pdf/BILLS-113hr3547enr.pdf

Written comments may be submitted at: EHS.CCPartnerships@acf.hhs.gov until Midnight February 7, 2014.

SUPPLEMENTARY INFORMATION: The expansion of EHS-Child Care Partnerships is a key component in President Obama's Early Learning Plan. These partnerships will extend the provision of high-quality early learning opportunities to more children from birth to age 3. Bolstering EHS-Child Care Partnerships promises to build a more seamless system for providing high-quality, full-day, full-year services to support children's development and parents' workforce needs.

These public meetings will be primarily listening sessions for the Agency and potentially an opportunity for dialogue among participants. We believe that the input received at the public meetings will be most helpful in providing the Agency with background information and broadening awareness of relevant issues of potential partnerships between Early Head Start grantees to develop partnerships with local child care centers and family child care providers serving low-income infants and toddlers. We will not respond to presentations during the meetings and will not regard them as formal comments that must be addressed by the Agency.

Dated: January 27, 2014.
Linda K. Smith,
Deputy Assistant Secretary for Early Childhood Development.

[FR Doc. 2014-02035 Filed 1-30-14; 8:45 am]

BILLING CODE 4184-40-P